DEPARTMENT OF HOMELAND SECURITY

Coast Guard

33 CFR Part 117

[CGD 11-04-053]

Drawbridge Operation Regulations; Sacramento River, Sacramento, CA

AGENCY: Coast Guard, DHS.

ACTION: Notice of temporary deviation from regulations.

SUMMARY: The Commander, Eleventh Coast Guard District, has issued a temporary deviation from the regulation governing the operation of the I Street Drawbridge across the Sacramento River, mile 59.4, at Sacramento, CA. This deviation allows the drawbridge to remain in the closed-to-navigation position during essential operating machinery repair, to prevent unexpected failure of the drawspan.

DATES: This deviation is effective from 8 a.m. on January 8, 2005 to 5 p.m. on January 13, 2005.

ADDRESSES: Materials referred to in this document are available for inspection or copying at Commander (oan), Eleventh Coast Guard District, Building 50-3, Coast Guard Island, Alameda, CA 94501-5100, between 8 a.m. and 4 p.m., Monday through Friday, except Federal holidays.

FOR FURTHER INFORMATION CONTACT: David H. Sulouff, Chief, Bridge Section, Eleventh Coast Guard District, telephone (510) 437-3516.

SUPPLEMENTARY INFORMATION: The Union Pacific Railroad has requested to secure the I Street Drawbridge, mile 59.4, Sacramento River, at Sacramento, CA, in the closed-to-navigation position from 8 a.m. on January 8, 2005 to 5 p.m. January 13, 2005, during essential operating machinery repair, to prevent unexpected failure of the drawspan. The drawbridge provides 109 ft. vertical clearance in the full open-to-navigation position, and 30 ft. vertical clearance above Mean High Water when closed. The drawbridge opens on signal from approaching vessels, as required by 33 CFR 117.189.

The proposed work was coordinated with waterway users. It was determined that potential navigational impacts will be reduced if the repairs are performed during January 2005, resulting in Coast Guard approval of the proposed work from 8 a.m. January 8, 2005 to 5 p.m. January 13, 2005.

During these times, the drawspan may be secured in the closed-to-navigation position and need not open for vessels.

The drawspan shall resume normal operation at the conclusion of the essential repair work. Mariners should contact the I Street Drawbridge by telephone at (916) 444-8999, in advance, to determine conditions at the bridge.

The drawspan will be unable to open during the repair. In the event of an emergency, the bridge owner would require 24-hour advance notice to open the bridge. Contact Mr. Steve Strickland at (916) 789-5249 or (916) 952-1894. Vessels that can safely pass through the closed drawbridge may continue to do so at any time. In accordance with 33 CFR 117.35(c), this work will be performed with all due speed to return the drawbridge to normal operation as soon as possible. This deviation from the operating regulations is approved under the provisions of 33 CFR 117.35.

Dated: December 23, 2004.
Kevin J. Eldridge,
Rear Admiral, U.S. Coast Guard, Commander, Eleventh Coast Guard District.

[FR Doc. 05-232 Filed 1-5-05; 8:45 am]

BILLING CODE 4910-15-P